ENVIRONMENTAL PROTECTION AGENCY

[EPA-HQ-OA-2013-0320; FRL-9830-1]

Technical Guidance for Assessing Environmental Justice in Regulatory Analysis

AGENCY: Environmental Protection Agency (EPA).

ACTION: Notice. Announcement of 60-day extension of public comment period for draft guidance.

SUMMARY: On May 9, 2013 the Environmental Protection Agency (EPA) issued for public comment a document entitled, “Technical Guidance for Assessing Environmental Justice in Regulatory Analysis.” The purpose of this notice is to extend the public comment period by 60 days. The public comment period will now close on September 6, 2013.

DATES: Comments must be received on or before September 6, 2013.

ADDRESSES: Submit your comments, identified by Docket ID No. EPA-HQ-OA-2013-0320 by one of the following methods:

• www.regulations.gov: Follow the on-line instructions for submitting comments.

• Email: maguire.kelly@epa.gov.

• Fax: 202-566-2363.

• Mail: Technical Guidance for Assessing Environmental Justice in Regulatory Analysis, Environmental Protection Agency, Mailcode: 1890T, 1200 Pennsylvania Ave. NW., Washington, DC 20460.

• Hand Delivery: EPA West, Room 3334, 1301 Constitution Ave., NW., Washington, DC. Such deliveries are only accepted during the Docket's normal hours of operation, and special arrangements should be made for deliveries of boxed information.

Instructions: Direct your comments to Docket ID No. EPA-HQ-OA-2013-0320. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Technical Guidance for Assessing Environmental Justice in Regulatory Analysis Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Technical Guidance for Assessing Environmental Justice in Regulatory Analysis is (202) 566-2273.

FOR FURTHER INFORMATION CONTACT: Dr. Kelly Maguire, Office of Policy, National Center for Environmental Economics, Mail code 1809T, Environmental Protection Agency, 1200 Pennsylvania Ave. NW., Mail code 1809T, Washington, DC 20460; telephone number: 202-566-2273; fax number: 202-566-2363; email address: maguire.kelly@epa.gov.

SUPPLEMENTARY INFORMATION: The Technical Guidance for Assessing Environmental Justice in Regulatory Analysis is available in the public docket for this notice. The docket can be viewed online at www.regulations.gov or in person at the EPA Docket Center, EPA West, Room 3334, 1301 Constitution Ave., NW. Washington, DC. The telephone number for the Docket Center is 202-566-1744. For additional information about EPA's public docket, visit http://www.epa.gov/dockets.

I. General Information

EPA is extending the public comment period for the draft Technical Guidance for Assessing Environmental Justice in Regulatory Analysis by 60 days. The public comment period will now close on September 6, 2013. EPA has been doing environmental justice assessments of its regulatory actions for years. This experience and body of work assessing regulatory actions provide the foundation for this draft guidance. This guidance begins to address the issue of how to analytically consider environmental justice in regulatory analyses. It provides a set of questions to guide analysts in evaluating potential environmental justice concerns in EPA rules, provides a set of recommendations and best practices for analyses, and defines key terms. No new risk assessment or socio-economic assessment methods are required, thus minimizing resource or analytical burdens. This guidance takes into account EPA's past experience in integrating EJ into the rulemaking process and will enable EPA to conduct consistent, better analysis of regulations to inform the public and decision makers.

II. What should I consider as I prepare my comments for EPA?

1. Submitting CBI. Do not submit this information to EPA through www.regulations.gov or email. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

Dated: June 18, 2013.
Michael L. Goo,
Associate Administrator, Office of Policy.

[FR Doc. 2013-15736 Filed 6-28-13; 8:45 am]

BILLING CODE 6560-50-P